ENVIRONMENTAL PROTECTION AGENCY

[ER-FRL-9017-1]

Environmental Impact Statements; Notice of Availability

Responsible Agency: Office of Federal Activities, General Information (202) 564-7146 or http://www.epa.gov/compliance/nepa/.

Weekly receipt of Environmental Impact Statements

Filed 09/08/2014 Through 09/12/2014

Pursuant to 40 CFR 1506.9.

Notice

Section 309(a) of the Clean Air Act requires that EPA make public its comments on EISs issued by other Federal agencies. EPA's comment letters on EISs are available at: http://www.epa.gov/compliance/nepa/eisdata.html.

EIS No. 20140264, Draft Supplement, FHWA, IL, US 30 (FAP 309), From IL-136 to IL-40, Comment Period Ends: 11/03/2014, Contact: Catherine A. Batey 217-492-4640.

EIS No. 20140265, Final EIS, USFS, OR, Oregon Dunes NRA Management Area 10 (C) Designated Routes Project, Review Period Ends: 11/03/2014, Contact: Angela Morris 541-271-6040.

EIS No. 20140266, Draft EIS, FRA, IL, Chicago—Detroit/Pontiac Passenger Rail Corridor Program, Comment Period Ends: 11/03/2014, Contact: Andrea Martin 202-493-6201.

EIS No. 20140267, Draft EIS, WAPA, CO, Estes to Flatiron Transmission Lines Rebuild Project (DOE/EIS-0483), Comment Period Ends: 11/03/2014, Contact: Mark Wieringa 720-962-7448.

EIS No. 20140268, Final EIS, USACE, KS, Removal and Disposal of Sediment and Restoration of Water Storage at John Redmond Reservoir, Review Period Ends: 10/20/2014, Contact: David Gade 918-669-7579.

EIS No. 20140269, Final Supplement, BOEM, 00, Gulf of Mexico OCS Oil and Gas Lease Sales: 2015-2017, Central Planning Area Lease Sales 235, 241, and 247, Review Period Ends: 10/20/2014, Contact: Mr. Gary D. Goeke 504-736-3233.

EIS No. 20140270, Final EIS, NRC, 00, Generic—Continued Storage of Spent Nuclear Fuel NUREG-2157, Review Period Ends: 10/20/2014, Contact: Sarah L. Lopas 301-287-0675.

EIS No. 20140271, Final EIS, FHWA, WI, West Waukesha Bypass, Review Period Ends: 11/18/2014, Contact: George Poirier 608-829-7500.

Amended Notices

EIS No. 20140241, Draft Supplement, FHWA, CO, I-70 East, from I-25 to Tower Road, Comment Period Ends: 10/31/2014, Contact: Chris Horn 720-963-3017. Revision to FR Notice Published 09/05/2014; Extending Comment Period from 10/17/2014 to 10/31/2014.

Dated: September 16, 2014.
Cliff Rader,
Director, NEPA Compliance Division, Office of Federal Activities.

[FR Doc. 2014-22400 Filed 9-18-14; 8:45 am]

BILLING CODE 6560-50-P